FEDERAL RETIREMENT THRIFT INVESTMENT

Board Member Meeting

DATES: April 27, 2020, 10:00 a.m., Telephonic.

Open Session

1. Approval of the Minutes of the March 23, 2020 Board Meeting

2. Monthly Reports:

(a) Participant Activity Report

(b) Legislative Report

3. Quarterly Reports:

(a) Investment Policy

(b) Audit Status

(c) Budget Review

4. CliftonLarsonAllen's Annual Financial Audit Review

5. Department of Labor, Employee Benefits Security Adminitration's Annual Audit Presentation

6. Office of Technology Services' Annual Report

Closed Session

Information covered under 5 U.S.C. 552b(c)(4) and (c)(9)(b).

Contact Person for More Information: Kimberly Weaver, Director, Office of External Affairs, (202) 942-1640.

SUPPLEMENTARY INFORMATION: Dial-in (listen only) information: Number: 1-877-446-3914, Code: 3808327.

Dated: April 17, 2020.
Megan Grumbine,
General Counsel, Federal Retirement Thrift Investment Board.

[FR Doc. 2020-08535 Filed 4-22-20; 8:45 am]

BILLING CODE 6760-01-P